DEPARTMENT OF DEFENSE

Department of the Army; U.S. Army Corps of Engineers

Notice of Intent To Prepare an Environmental Impact Statement/Environmental Impact Report for Phase 3 of Reclamation District No. 17 100-Year Levee Seepage Area Project, San Joaquin County, CA

AGENCY: Department of the Army, U.S. Army Corps of Engineers; DoD.

ACTION: Notice of Intent

.

SUMMARY: The action being taken is the preparation of an environmental impact statement/environmental impact report (EIS/EIR) for Phase 3 of Reclamation District No. 17's (RD 17) 100-year Levee Seepage Area Project (LSAP). To implement Phase 3 of the LSAP, RD 17 is requesting permission from the U.S. Army Corps of Engineers pursuant to Section 14 of the Rivers and Harbors Act of 1899 (33 U.S.C. 408, referred to as “Section 408”) for alteration of Federal project levees and Section 404 of the Clean Water Act (33 U.S.C. 1344) for placement of fill into jurisdictional waters of the United States. Under Section 408, the Chief of Engineers may grant permission to alter an existing Federal project if it is not injurious to the public interest and does not impair the usefulness of the project. Portions of the RD 17 levee system including the section of levee along the south bank of French Camp Slough, along the east bank of the San Joaquin River, and along the northerly bank of Walthall Slough are Federal project levees. Therefore, Section 408 permission is required for structural improvements to these portions of the RD 17 levee system and would be issued to the Central Valley Flood Protection Board. Under Section 404, the District Engineer permits the discharge of dredged or fill material into waters of the United States if the discharge meets the requirements of the Environmental Protection Agency's 404(b)(1) guidelines and is not contrary to the public interest. As the landside levee improvements would result in a discharge of fill material into waters of the United States, permission under Section 404 is needed and would be issued directly to RD 17. RD 17 is located in San Joaquin County, California in the cities of Stockton, Lathrop, and Manteca.

DATES: A public scoping meeting will be held on May 11, 2010, from 2 p.m. until 5 p.m. (see ADDRESSES). Send written comments by May 24, 2010.

ADDRESSES: Public Scoping Meeting, City Council Chambers, Lathrop City Hall, 390 Towne Centre Drive, Lathrop, CA. Send written comments and suggestions concerning this study to Ms. Sarah Ross, U.S. Army Corps of Engineers, Sacramento District, Attn: Planning Division (CESPK-PD-RA), 1325 J Street, Sacramento, CA 95814-2922. Requests to be placed on the mailing list should also be sent to this address.

FOR FURTHER INFORMATION CONTACT: Questions about the proposed action and EIS/EIR should be addressed to Ms. Sarah Ross at (916) 557-5256, by e-mail Sarah.R.Ross@usace.army.mil, or by mail (see ADDRESSES).

SUPPLEMENTARY INFORMATION: 1. Proposed Action. The U.S. Army Corps of Engineers is preparing an EIS/EIR to analyze the impacts of the work proposed by RD 17 to implement Phase 3 of the LSAP. The overall purpose of the LSAP is to reduce the risk of flooding by implementing improvements to portions of the approximately 19-mile RD 17 levee system to meet applicable Federal and State design recommendations for levees protecting urban areas. Phase 3 is a component of the LSAP proposed by RD 17 and would construct landside improvements to 23 subreaches of 10 levee reaches involving approximately 8.4 miles of the RD 17 levee system starting near the southern boundary of the city of Stockton, through the city of Lathrop, and to the southern boundary of the city of Manteca.

2. Alternatives. The EIS/EIR will consider several alternatives for reducing flood damage. Alternatives analyzed during the investigation will consist of a combination of one or more measures to reduce the risk of flooding. These measures include installing cutoff walls, constructing seepage berms, and constructing setback levees.

3. Scoping Process.

a. A public scoping meeting will be held on May 11, 2010, to present information to the public and to receive comments from the public. This meeting will begin a process to solicit input from the public as well as Federal, State, and local agencies concerned with Phase 3 of the LSAP.

b. Significant issues to be analyzed in depth in the EIS/EIR include effects on agricultural resources; land use; geology and soils; hydrology and hydraulics; water quality; biological resources (i.e., fisheries, vegetation and wildlife resources, special-status species, and wetlands and other waters of the United States); cultural resources; transportation and circulation; air quality; noise; visual resources; utilities and service systems; hazards and hazardous materials; socioeconomics, population, and housing; and environmental justice. The EIS/EIR will also evaluate the cumulative effects of the proposed LSAP (including past LSAP Phases 1 and 2) and other related projects in the study area.

c. The U.S. Army Corps of Engineers is consulting with the State Historic Preservation Officer to comply with the National Historic Preservation Act; the U.S. Fish and Wildlife Service and the National Marine Fisheries Service to provide a biological opinion; and with the U.S. Fish and Wildlife Service to provide a Fish and Wildlife Coordination Act report.

d. A 45-day public review period will be provided for individuals and agencies to review and comment on the draft EIS/EIR. All interested parties are encouraged to respond to this notice and provide a current address if they wish to be notified of the draft EIS/EIR circulation.

4. Availability. The draft EIS/EIR is scheduled to be available for public review and comment in fall 2010.

Dated: April 15, 2010.
Thomas Chapman,
Colonel, U.S. Army, District Commander.

[FR Doc. 2010-9447 Filed 4-22-10; 8:45 am]

BILLING CODE 3720-58-P